DEPARTMENT OF JUSTICE

Antitrust Division

Notice Pursuant to the National Cooperative Research and Production Act of 1993—Subcutaneous Drug Development & Delivery Consortium, Inc.

Notice is hereby given that, on October 26, 2020, pursuant to Section 6(a) of the National Cooperative Research and Production Act of 1993, 15 U.S.C. 4301 et seq. (“the Act”), Subcutaneous Drug Development & Delivery Consortium, Inc. (“Subcutaneous Drug Development & Delivery Consortium, Inc.”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identity of the parties to the venture are: Eli Lilly and Company, Indianapolis, IN; Halozyme, Inc., San Diego, CA; Bristol Myers Squibb, New Brunswick, NJ; AstraZeneca, San Francisco, CA; and Amgen Inc., Thousand Oaks, CA. The general area of Subcutaneous Drug Development & Delivery Consortium, Inc.'s planned activity is (a) transform patient care and improve patient outcomes by identifying and addressing key gaps, unmet needs and actionable issues in the dynamic subcutaneous (“SC”) drug delivery and development landscape, including through research, publication of industry analyses, and the development of SC-related manuscripts, models, standards and other guidance materials (collectively, “Guidance”); (b) provide a venue for reviewing, developing, maintaining and supporting the Guidance; (c) promote the Guidance worldwide; (d) provide for testing and conformity assessment of implementations in order to ensure and/or facilitate compliance with Guidance; (e) operate a branding program based upon distinctive trademarks to create high customer awareness of, demand for, and confidence in the Guidance, and products or services designed in compliance therewith; and (f) undertake such other activities as may from time to time be appropriate to further the purposes and achieve the goals set forth above.

Membership in Subcutaneous Drug Development & Delivery Consortium, Inc. remains open and Subcutaneous Drug Development & Delivery Consortium, Inc. intends to file additional written notifications disclosing all changes in membership.

Suzanne Morris,
Chief, Premerger and Division Statistics, Antitrust Division.

[FR Doc. 2020-26626 Filed 12-2-20; 8:45 am]

BILLING CODE 4410-11-P